DEPARTMENT OF COMMERCE

International Trade Administration

[A-427-801 and A-588-804]

Ball Bearings and Parts Thereof From France and Japan; Amended Final Results of Antidumping Duty Administrative Reviews

AGENCY: Import Administration, International Trade Administration, Department of Commerce.

ACTION: Notice of amended final results of antidumping duty administrative reviews.

SUMMARY: On June 16, 2003, the Department of Commerce published in the Federal Register the final results of the administrative reviews of the antidumping duty orders on ball bearings and parts thereof from France, Germany, Italy, Japan, and the United Kingdom. The period of review is May 1, 2001, through April 30, 2002. Based on the correction of certain ministerial errors, we have changed the margins for two companies (i.e., Nippon Pillow Block Sales Company for the administrative review of ball bearings and parts thereof from Japan, and SKF for the administrative review of ball bearings and parts thereof from France).

FOR FURTHER INFORMATION CONTACT: Please Contact Susan Lehman at (202) 482-0180 or David Dirstine at (202) 482-3047; AD/CVD Enforcement 3, Import Administration, International Trade Administration, U.S. Department of Commerce, Washington, DC 20230.

SUPPLEMENTARY INFORMATION:

Background

On June 16, 2003, the Department of Commerce (the Department) published in the Federal Register the final results of the administrative reviews of the antidumping duty orders on ball bearings and parts thereof (ball bearings) from France, Germany, Italy, Japan, and the United Kingdom (68 FR 35623) (Final Results).

We received timely allegations of ministerial errors from Timken U.S. Corporation (Timken) and the SKF Group Companies in the United States and France (SKF France). In its comments dated June 18, 2003, Timken alleged that the Department erred when it made a correction to Nippon Pillow Block Sales Company's (NPBS's) preliminary results margin calculation. Specifically, Timken asserts that the Department erred when it deleted indirect advertising expenses from NPBS's U.S. indirect selling expense total. We agree with the alleged error and, therefore, we have amended the final results to correct the problem.

In its comments dated June 16, 2003, SKF France alleged that the Department made a clerical error in assigning the level of trade (LOT) for U.S. sales. We agree with SKF France that we incorrectly assigned the LOT for U.S. sales. We corrected this error.

Amended Final Results of Review

As a result of the correction of clerical errors, the following weighted-average margins exist for exports of ball bearings by NPBS and SKF France for the period May 1, 2001, through April 30, 2002:

Company | Margin (percent)
Nippon Pillow Block Sales Company (NPBS) | 4.82
SKF France | 6.70

The Department will determine, and the U.S. Bureau of Customs and Border Protection (BCBP), formerly known as the U.S. Customs Service, shall assess antidumping duties on all appropriate entries. We will issue appropriate assessment instructions directly to BCBP within 15 days of publication of these amended final results of review.

We will also direct BCBP to collect cash deposits of estimated antidumping duties on all appropriate entries in accordance with the procedures discussed in the Final Results and at the rates as amended by this notice. The amended deposit requirements are effective for all shipments of the subject merchandise entered, or withdrawn from warehouse, for consumption on or after the date these amended final results are published in the Federal Register.

We are issuing and publishing these determinations and notice in accordance with sections 751(a)(1) and 777(i) of the Act and 19 CFR 351.224(e).

Dated: July 18, 2003.
Jeffrey May,
Acting Assistant Secretary, for Grant Aldonas, Under Secretary.

[FR Doc. 03-18862 Filed 7-23-03; 8:45 am]

BILLING CODE 3510-DS-P